DEPARTMENT OF HEALTH AND HUMAN SERVICES

Substance Abuse and Mental Health Services Administration

Notice of a Meeting

Pursuant to Pub. L. 92-463, notice is hereby given of a meeting of the Substance Abuse and Mental Health Services Administration (SAMHSA) National Advisory Council in December 2004.

The SAMHSA National Advisory Council will meet in an open session December 7 from 9 a.m. to 5:30 p.m. and on December 8 from 9 a.m. to 11:30 a.m. The meeting will include a SAMHSA Administrator's Report, as well as discussions on seclusion and restraint, SAMHSA's HIV/AIDS and hepatitis activities, criminal justice issues, and SAMHSA's American Indian and Alaska Native activities. There will also be updates on SAMHSA's disaster readiness and response activities and legislative issues.

Attendance by the public will be limited to space available. Public comments are welcome. Please communicate with the individual listed as contact below to make arrangements to comment or to request special accommodations for persons with disabilities.

Substantive program information, a summary of the meeting, and a roster of Council members may be obtained either by accessing the SAMHSA Council Web site, http://www.samhsa.gov/council/council or by communicating with the contact whose name and telephone number is listed below. The transcript for the meeting will also be available on the SAMHSA Council Web site.

Committee Name: SAMHSA National Advisory Council.

Date/Time: Tuesday, December 7, 2004, 9 a.m. to 5:30 p.m. (Open). Wednesday, December 8, 2004, 9 a.m. to 11:30 a.m. (Open).

Place: 1 Choke Cherry Road, Sugarloaf Room, Rockville, Maryland 20857.

Contact: Toian Vaughn, Executive Secretary, 1 Choke Cherry Road, Room 8-1089, Rockville, Maryland 20857, Telephone: (240) 276-2307; FAX: (240) 276-2252 and E-mail: toian.vaughn@samhsa.hhs.gov.

Dated: November 22, 2004.
Toian Vaughn,
Committee Management Officer, SAMHSA.

[FR Doc. 04-26320 Filed 11-26-04; 8:45 am]

BILLING CODE 4162-20-P